DEPARTMENT OF COMMERCE

National Oceanic and Atmospheric Administration

Proposed Information Collection; Comment Request; Gulf of Alaska Catcher Vessel and Processor Trawl Economic Data Report

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before September 5, 2017.

ADDRESSES: Direct all written comments to Jennifer Jessup, Departmental Paperwork Clearance Officer, Department of Commerce, Room 6616, 14th and Constitution Avenue NW., Washington, DC 20230 (or via the Internet at pracomments@doc.gov).

FOR FURTHER INFORMATION CONTACT: Requests for additional information or copies of the information collection instrument and instructions should be directed to Stephanie Warpinski, (907) 586-7228.

SUPPLEMENTARY INFORMATION:

I. Abstract

This request is for extension of a current information collection.

The Gulf of Alaska Trawl Groundfish Economic Data Report Program evaluates the economic effects of current and future groundfish management measures for Gulf of Alaska (GOA) trawl fisheries. This program provides the National Marine Fisheries Service (NMFS) and the North Pacific Fishery Management Council with baseline information on affected harvesters, crew, processors, and communities in the GOA. Data collected through the economic data reports (EDRs) include labor information, revenues received, capital and operational expenses, and other operational or financial data. This information is used to assess the impacts of major changes in the groundfish management regime, including catch share program implementation.

The Catcher Vessel GOA Trawl EDR is submitted by owners or leaseholders of catcher vessels that harvest groundfish using trawl gear from the GOA or parallel fisheries. The Processor GOA Trawl EDR is submitted by owners or leaseholders of shoreside processors or stationary floating processors that receive deliveries from vessels that harvest groundfish using trawl gear from the GOA or parallel fisheries. Annual submission of these EDRs is mandatory.

II. Method of Collection

The EDRs may be submitted online, or by mail or facsimile transmission of paper forms. Pacific States Marine Fisheries Commission (PSMFC) has been designated by NMFS as the Data Collection Agent for the GOA Trawl EDR Program. PSMFC mails EDR announcements and filing instructions to respondents by April 1 of each year. Respondents are encouraged to complete the forms online on the PSMFC Web site at https://survey.psmfc.org. EDR forms are also available in fillable PDF format on the PSFMC Web site at http://www.psmfc.org/goatrawl/.

III. Data

OMB Control Number: 0648-0700.

Form Number(s): None.

Type of Review: Regular submission (extension of a current information collection).

Affected Public: Business or other for-profit organizations; Individuals or households; not-for-profit institutions.

Estimated Number of Respondents: 88.

Estimated Time per Response: Catcher Vessel GOA Trawl EDR, 15 hours; Processor GOA Trawl EDR, 3 hours.

Estimated Total Annual Burden Hours: 1,104 hours.

Estimated Total Annual Cost to Public: $197 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 29, 2017.
Sarah Brabson,
NOAA PRA Clearance Officer.

[FR Doc. 2017-14123 Filed 7-5-17; 8:45 am]

BILLING CODE 3510-22-P